DEPARTMENT OF EDUCATION

[Docket No.: ED-2020-SCC-0012]

Agency Information Collection Activities; Comment Request; Example Application for the Emergency Assistance to Non-Public Schools Program

AGENCY: Office of Elementary and Secondary Education (OESE), Department of Education (ED).

ACTION: Notice.

SUMMARY: In accordance with the Paperwork Reduction Act of 1995, ED is requesting the Office of Management and Budget (OMB) to conduct an emergency review of a new information collection.

DATES: The Department has requested emergency processing from OMB for this information collection request by January 14, 2021; and therefore, the regular clearance process is hereby being initiated to provide the public with the opportunity to comment under the full comment period. Interested persons are invited to submit comments on or before March 22, 2021.

ADDRESSES: To access and review all the documents related to the information collection listed in this notice, please use http://www.regulations.gov by searching the Docket ID number ED-2021-SCC-0012. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Andrew Brake, 202-260-0998.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Example Application for the Emergency Assistance to Non-Public Schools Program.

OMB Control Number: 1810-NEW.

Type of Review: A new information collection.

Respondents/Affected Public: State, Local, and Tribal Governments.

Total Estimated Number of Annual Responses: 20,000.

Total Estimated Number of Annual Burden Hours: 40,000.

Abstract: The Emergency Assistance to Non-Public Schools program is a reservation of funds under the Coronavirus Response and Relief Supplemental Appropriations Act, 2021 (CRRSA Act) to provide services or assistance to non-public schools. Under the EANS program, we will award grants by formula to each Governor with an approved Certification and Agreement to provide services or assistance to eligible non-public schools to address the impact that the Coronavirus Disease 2019 (COVID-19) has had, and continues to have, on non-public school students and teachers in the State. The CRRSA Act requires that State's collect applications from non-public schools in order to award these funds. This request is being made to allow the distribution of an example application States can use to collect the needed information from eligible non-public schools. States are not required to use this application and may create their own.

Additional Information: An emergency clearance approval for the use of the system is described below due to the following conditions:

• The Department of Education (Department) requests that the following collection of information, the example application for the Emergency Assistance to Non Public Schools (EANS) Program under section 312(d) of the CRRSA Act, Public Law 116-260, be processed in accordance with section 1320.13 emergency processing of the Paperwork Reduction Act. Section 312(d)(3) of the CRRSA Act requires that any State educational agency receiving funds to provide services or assistance to non-public schools shall make an application for those services available to non-public schools no later than 30 days after the receipt of such funds. The Department announced the availability of the EANS funds on January 8, 2021 and will be awarding funds no later than 15 days after receipt of a Governor's application.

Dated: January 14, 2021.
Kate Mullan,
PRA Coordinator, Strategic Collections and Clearance Governance and Strategy Division, Office of Chief Data Officer.

[FR Doc. 2021-01192 Filed 1-19-21; 8:45 am]

BILLING CODE 4000-01-P